U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on April 24, 2025 on “China's Domestic Energy Challenges and Its Growing Influence Over International Energy Markets.”

DATES: The hearing is scheduled for Thursday, April 24, 2025 at 9:30 a.m.

ADDRESSES: Members of the public will be able to attend in person at or near the U.S. Capitol and adjacent Congressional office buildings (specific building and room number to be announced) or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the fifth public hearing the Commission will hold during its 2025 reporting cycle. The hearing will explore China's strategies to achieve greater energy self-sufficiency and expand energy production amid rising domestic demand. The hearing will also examine overseas investment in energy infrastructure by Chinese entities and resulting cybersecurity and supply chain risks to host nations. Lastly, the hearing will address China's role in supply chains of critical minerals needed in the energy sector, including dominance of refining and evolving use of export controls on critical minerals.

The hearing will be co-chaired by Commissioner Carte Goodwin and Commissioner Hal Brands. Any interested party may file a written statement by April 24, 2025 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 4, 2025.
Christopher P. Fioravante,
Deputy Executive Director, U.S.-China Economic and Security Review Commission.

[FR Doc. 2025-06105 Filed 4-8-25; 8:45 am]

BILLING CODE 1137-00-P